CORPORATION FOR NATIONAL AND COMMUNITY SERVICE

Revision of Currently Approved Information Collection; Submission for OMB Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Public Law 104-13, (44 U.S.C. Chapter 35). Copies of these individual ICRs, with applicable supporting documentation, may be obtained by calling the Corporation for National and Community Service, AmeriCorps*VISTA, Rosezina Dunn, (202) 606-5000, extension 244. Individuals who use a telecommunications device for the deaf (TTY-TDD) may call (202) 565-5256 between 9:00 a.m. and 4:30 p.m. Eastern time, Monday through Friday.

Comments should be sent to the Office of Information and Regulatory Affairs, Attn: Mr. Danny Werfel, OMB Desk Officer for the Corporation for National and Community Service, Office of Management and Budget, Room 10235, Washington, D.C. 20503, (202) 395-7316, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

Type of Review: Revision of a currently approved information collection.

Agency: Corporation for National and Community Service.

Title: AmeriCorps*VISTA Project Application, Part A and Part B.

OMB Number: 3045-0038.

Agency Number: CNS 1421 (Part A), and CNS 1421B (Part B).

Affected Public: All eligible public and private non-profit organizations.

Total Respondents: 2,200.

Frequency: Part A is completed initially when the project is being developed, and Part B is completed for each renewal year.

Average Time Per Response: Part A—1 hour; Part B—8 hours.

Estimated Total Burden Hours: 9,200.

Total Burden Cost (capital/startup): None.

Total Burden Cost (operating/maintenance): $104,780.

Description: The Corporation seeks public comment on the AmeriCorps*VISTA Project Application, Part A and Part B. This application is being resubmitted for OMB approval for a new 3-year period. The project application is submitted in order for projects to receive Federal assistance either in the form of an AmeriCorps*VISTA member, or grant of funds to support a project approved for members. It is used by potential project sponsors, as well as continuing previously approved projects.

Dated: February 25, 2000.
Thomasenia P. Duncan,
General Counsel.

[FR Doc. 00-4914 Filed 2-29-00; 8:45 am]

BILLING CODE 6050-28-P